DEPARTMENT OF ENERGY

Federal Energy Regulatory Commission

[Docket No. RP99-301-044]

ANR Pipeline Company; Notice of Negotiated Rates

April 2, 2002.

Take notice that on March 28, 2002, ANR Pipeline Company (ANR) filed amendments to fifteen (15) service agreements that have previously been accepted as negotiated rate agreements.

ANR states that the amendments reflect revised exhibits effectuating a change in shippers' quantities in storage agreements and transportation agreements used for injection into storage.

ANR further requests clarification as to the necessity of filing amendments that effectuate changes to negotiated rate agreements pursuant to provisions that have previously been authorized by the Commission. Alternatively, ANR seeks a waiver of the filing requirement for changes in volume levels pursuant to the provision in its agreements that permit such changes upon changes in fuel use percentages.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See 18 CFR 385.2001(a)(1)(iii) and the instructions on the Commission's web site under the “e-Filing” link.

Magalie R. Salas,
Secretary.

[FR Doc. 02-8407 Filed 4-5-02; 8:45 am]

BILLING CODE 6717-01-P